DEPARTMENT OF TRANSPORTATION

Surface Transportation Board

[STB Finance Docket No. 34541]

Spokane County, WA, Division of Engineering and Roads—Acquisition Exemption—The Burlington Northern and Santa Fe Railway Company

Spokane County, Division of Engineering and Roads (Spokane), a Class III rail carrier, has filed a verified notice of exemption under 49 CFR 1150.41 to acquire from The Burlington Northern and Santa Fe Railway Company (BNSF), a line of railroad known as the Geiger Spur from milepost 1493.95, on its Columbia River Subdivision, to milepost 4.93, on the Geiger Spur, a total distance of 4.93 miles.

This transaction is related to a verified notice of exemption in STB Finance Docket No. 34546, Western Rail Switching, Incorporated—Operation Exemption—Rail Line of Spokane County, WA, wherein Western Rail Switching, Incorporated seeks to operate the line being acquired by Spokane.

Spokane certifies that its projected annual revenues as a result of this transaction will not exceed $5 million, and the transaction will not result in the creation of a Class I or Class II rail carrier.

The transaction was scheduled to be consummated on October 1, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34541, must be filed with the Surface Transportation Board, 1925 K Street NW., Washington, DC 20423-0001. In addition, one copy of each pleading must be served on Martin Rollins, Spokane County Prosecuting Attorney's Office, Civil Division, 1115 West Broadway Avenue, Spokane, WA 99260.

Board decisions and notices are available on our Web site at http://www.stb.dot.gov.

Decided: September 24, 2004.
By the Board, David M. Konschnik, Director, Office of Proceedings.
Vernon A. Williams,
Secretary.

[FR Doc. 04-22340 Filed 10-1-04; 8:45 am]

BILLING CODE 4915-01-P